DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Feedback Survey for Annual Tsunami Warning Communications Test.

Form Number(s): None.

OMB Approval Number: 0648-0539.

Type of Request: Regular submission.

Burden Hours: 31.

Number of Respondents: 250.

Average Hours per Response: 5 minutes.

Needs and Uses: In compliance with the Tsunami Warning and Education Act (Pub. L. 109-424) and to assess the effectiveness of NOAA/National Weather Service's (NWS) Tsunami Warning System, this information collection survey is needed to gather specific feedback following testing of the associated NWS communications systems. The tests are planned annually March/April and September using a web-based survey. Post-test feedback will be requested from emergency managers, the media, law enforcement officials, local government agencies/officials, and the general public. The responses will be solicited for a limited period immediately following completion of this test, not to exceed seven days. This web-based survey will allow for efficient collection of information regarding the effectiveness of the Tsunami Warning System.

Affected Public: Individuals or households; State, Local or Tribal Government.

Frequency: Semi-annually.

Respondent's Obligation: Voluntary.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7825, or David_Rostker@omb.eop.gov.

Dated: January 29, 2009.
Gwellnar Banks,
Management Analyst, Office of the Chief Information Officer.

[FR Doc. E9-2235 Filed 2-2-09; 8:45 am]

BILLING CODE 3510-22-P